DEPARTMENT OF LABOR

Employment and Training Administration

[TA-W-41,388]

Fujitsu Network Communications, Inc., Raleigh, NC; Notice of Negative Determination Regarding Application for Reconsideration

By application received on July 8, 2002, a petitioner requested administrative reconsideration of the Department's negative determination regarding eligibility for workers and former workers of the subject firm to apply for Trade Adjustment Assistance (TAA). The denial notice applicable to workers of Fujitsu Network Communications (FNC), Inc., Raleigh, North Carolina, was signed on June 7, 2002, and published in the Federal Register on June 21, 2002 (67 FR 42285).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Fujitsu Network Communications (FNC), Inc., Raleigh, North Carolina were engaged in activities related to software programming and computer support. The petition was denied because the petitioning workers did not produce an article within the meaning of Section 222(3) of the Act.

The petitioner attempts to demonstrate that the subject plant workers produced a specific article. The petitioner indicates that the product is called “NETSMART” which is an operating system with a graphical user interface. The petitioner further indicates that most of the workers were software developers and some were assigned computer tasks that involved leasing of the developers computers, upgrading the developer's computers with the latest versions of third party software, and regularly developing code into a single functioning unit to be burned on to a compact disk for distribution.

The functions of programming, technical support and the other administrative functions depicted by the petitioner are not considered production activities. A review of the initial investigation shows no production of an article was ever performed at the subject facility during the relevant period.

The workers at the subject firm do not produce an article within the meaning of Section 222(3) of the Trade Act 1974.

Conclusion

After review of the application and investigative findings, I conclude that there has been no error or misinterpretation of the law or of the facts which would justify reconsideration of the Department of Labor's prior decision. Accordingly, the application is denied.

Signed at Washington, DC, this 1st day of August, 2002.
Edward A. Tomchick,
Director, Division of Trade Adjustment Assistance.

[FR Doc. 02-20199 Filed 8-8-02; 8:45 am]

BILLING CODE 4510-30-P